DEPARTMENT OF TRANSPORTATION

Office of the Secretary

Data Collection Available for Public Comments and Recommendations

AGENCY: Office of the Secretary, DOT.

ACTION: Notice of request for extension of a currently approved information collection.

SUMMARY: In accordance with the Paperwork Reduction Act of 1995, this notice announces the Department of Transportation's intentions to request approval on a currently approved information collection.

DATES: Comments on this notice should be received by September 27, 2002.

ADDRESSES: Attention Office of the Secretary, Office of International Aviation (X-43), 400 Seventh Street, SW., Washington, DC 20590. Three copies are requested but not required.

FOR FURTHER INFORMATION CONTACT: John Kiser, Office of the Secretary, Office of International Aviation, X-43, Department of Transportation, 400 7th Street, SW., Washington, DC 20590, (202) 366-2435.

SUPPLEMENTARY INFORMATION: Title: Tariffs.

OMB Control Number: 2106-0009.

Type of Request: Extension of currently approved information collection.

Description of Respondents: Air carriers filing international tariffs.

Annual Responses: 230.

Average Annual Burden per Respondent: 5700 hours.

Estimated Total Annual Burden on Respondents: 650,000 hours.

Comments are invited on: (a) Whether this collection of information (third party notification) is necessary for the proper performance of the functions of the agency, including whether the information will have practical utility; (b) the accuracy of the agency's estimate of burden of the proposed collection of information; (c) ways to enhance the quality, utility, and clarity of the information to be collected; and (d) ways to minimize the burden of the collection of information on the respondents, including through the use of automated techniques or other forms of information technology.

Issued in Washington, DC, on August 22, 2002.
Michael Robinson,
Program Analyst.

[FR Doc. 02-21918 Filed 8-27-02; 8:45 am]

BILLING CODE 4910-62-P